DEPARTMENT OF LABOR

Office of the Secretary

Privacy Act of 1974; Publication of A New System of Records

AGENCY: Office of the Secretary, Labor.

ACTION: Notice of a new system of records.

SUMMARY: The Privacy Act of 1974 requires that each agency publish notice of all of the systems of records that it maintains. This document adds a new system of records to the Department's current systems of records. With the addition of the new system of records, the Department will be maintaining 148 systems of records.

DATES: Persons wishing to comment on this new system of records may do so by March 18, 2003.

EFFECTIVE DATE: Unless there is a further notice in the Federal Register, this new system of records will become effective on April 2, 2003.

ADDRESSES: Written comments may be mailed or delivered to Robert A. Shapiro, Associate Solicitor, Division of Legislation and Legal Counsel, 200 Constitution Avenue, NW., Room N-2428, Washington, DC 20210 or by e-mail to miller-miriam@dol.gov.

FOR FURTHER INFORMATION CONTACT: Miriam McD. Miller, Co-Counsel for Administrative Law, Office of the Solicitor, Department of Labor, 200 Constitution Avenue, NW., Room N-2428, Washington, DC 20210, telephone (202) 693-5500.

SUPPLEMENTARY INFORMATION: Pursuant to section three of the Privacy Act of 1974 (5 U.S.C. 552a(e)(4)), hereinafter referred to as the Act, the Department hereby publishes notice of a new system of records currently maintained pursuant to the Act. On April 8, 2002, in volume 67 at page 16816 of the Federal Register, the Department published a notice of 147 systems of records which are maintained under the Act. The new system of records presented herein, established by the Office of the 21st Century Workforce, is entitled DOL/21st CENTURY-1, Correspondents With the Office of the 21st Century Workforce. This system contains information necessary to satisfy requests by individuals for information, brochures, or requests to register for events, activities and/or programs. Depending on the nature of the request, the file may include (but is not limited to) the following information on the individuals who have contacted DOL: name, title, mailing address, telephone and fax numbers, E-Mail addresses.

General Prefatory Statement

1. In its April 8, 2002, publication, the Department gave notice of 12 paragraphs containing routine uses which apply to all of its systems of records, except for DOL/OASAM-5 and DOL/OASAM-7. These 12 paragraphs were presented in the General Prefatory Statement for that document, and it appeared at pages 16825 of volume 67 of the Federal Register. At this time we are republishing the April 8, 2002, version of the General Prefatory Statement as a convenience to the reader of this document.

2. This republication shall include the statement that pursuant to the Flexiplace Program, the system location for all systems of records may be temporarily located at alternate worksites, including the employees' homes or at geographically convenient satellite offices for part of the workweek.

The public, the Office of Management and Budget (OMB), and the Congress are invited to submit written comments on this new system. A report on this system has been provided to OMB and to the Congress as required by OMB Circular A-130, Revised, and 5 U.S.C. 552a.

General Prefatory Statement

A. Universal Routine Uses of the Records

The following routine uses of the records apply to and are incorporated by reference into each system of records published below unless the text of a particular notice of a system of records indicates otherwise. These routine uses do not apply to DOL/OASAM—5, Rehabilitation and Counseling File, nor to DOL/OASAM—7, Employee Medical Records.

1. To disclose the records to the Department of Justice when: (a)The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States government, is a party to litigation or has an interest in such litigation, and by careful review, the agency determines that the records are both relevant and necessary to the litigation, and that the use of such records is a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted under 44 U.S.C. 2904 and 2906.

6. To disclose to contractors, employees of contractors, consultants, grantees, and volunteers who have been engaged to assist the agency in the performance of or working on a contract, service, grant, cooperative agreement or other activity or service for the Federal Government.

Note 1. Recipients shall be required to comply with the requirements of the Privacy Act of 1974, as amended, 5 U.S.C. 552a; see also 5 U.S.C. 552a(m).

7. To the parent locator service of the Department of Health and Human Services or to other authorized persons defined by Pub. L. 93-647 the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, or tribal or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services to recover debts owed to the United States.

12. To the news media and the public when (1) the matter under investigation has become public knowledge, (2) the Solicitor of Labor determines that disclosure is necessary to preserve confidence in the integrity of the Department or is necessary to demonstrate the accountability of Department's officers, employees, or individuals covered by this system, or (3) the Solicitor of Labor determines that there exists a legitimate public interest in the disclosure of the information, except to the extent that the Solicitor of Labor determines in any of these situations that disclosure of specific information in the context of a particular case would constitute an unwarranted invasion of personal privacy.

B. System Location—Flexiplace Programs

The following paragraph applies to and is incorporated by reference into all of the Department's systems of records under the Privacy Act, within the category entitled, System Location: “Pursuant to the Department of Labor's Flexiplace Programs, copies of records may be temporarily located at alternative worksites, including employees' homes or at geographically convenient satellite offices for part of the workweek. All appropriate safeguards will be taken at these sites.”

Publication of a New System of Records

Office of the 21st Century Workforce (21st CENTURY)

DOL/21st Century-1

SYSTEM NAME:

Correspondents with the Office of the 21st Century Workforce.

SECURITY CLASSIFICATION:

None.

System Location:

Office of the 21st Century Workforce, U.S. Department of Labor, 200 Constitution Avenue, NW., Washington, DC 20210.

Categories of Individuals Covered by the System:

Individual correspondents with the Office of the 21st Century Workforce who contact, by telephone, U.S. Mail or E-Mail, the Office of the 21st Century Workforce for various reasons such as, but not limited to, requests for information, brochures, registration for events, activities, and programs and requests for related reasons.

Categories of Records in the System:

Information necessary to satisfy requests for information, brochures, or requests to register for events, activities and /or programs. Depending on the nature of the request, the file may include (but is not limited to) the following information on the individuals who have contacted DOL: name, title, mailing address, telephone and fax numbers, E-Mail addresses.

Authority for Maintenance of the System:

Executive Order 13218 of June 20, 2001, 66 FR 33627, 3 CFR, 2001 Compilation, p.776.

Purpose(s):

To enhance information exchange by improving the availability of the Office of the 21st Century Workforce and DOL component information on automated systems; to facilitate sending information about events, activities and programs to correspondents with the Office of the 21st Century Workforce with the public access Internet site, and to provide a frame from which to select an unbiased sample of individuals for surveys. Maintaining the names, addresses, etc. of individuals requesting data/publications will streamline the process for handling subsequent inquiries and requests by eliminating duplicative gathering of mailing information, data and material to individuals with corresponding interests; to provide usage statistics associated with the DOL public access Internet site, and to provide a frame from which to select an unbiased sample of users for users service surveys.

Routine Uses of Records Maintained in the System, Including Categories of Users and the Purposes of Such Uses:

A record from this system of records may be disclosed to the United States Small Business Administration. The Routine Uses listed at paragraphs 3, 4, 5, 7, 8, 9, 10, 11, and 12 in the General Prefatory Statement to this document are not applicable to this system of records. The Routine Uses listed at paragraphs 1, 2, and 6 are applicable to this system of records, and the records also may be disclosed where required by law.

Disclosure to Consumer Reporting Agencies:

None.

Policies and Practices for Storing, Retrieving, Accessing, Retaining, and Disposing of Records in the System:

Storage:

Files are stored electronically and/or on paper.

Retrievability:

By name, telephone or fax number (including the telephone number from which the individual dials), E-Mail address or other identifying information in the System.

Safeguards:

Access by authorized personnel only. Computer security safeguards are used for electronically stored data and locked locations for paper files.

Retention and Disposal:

Current correspondent information files are updated as necessary and are destroyed when no longer needed.

System Manager(s) and Address:

Director, Office of the 21st Century Workforce, U.S. Department of Labor, 200 Constitution Avenue, NW., Washington, DC 20210.

Notification Procedure:

Mail, or present in writing, all inquiries to the System Manager at the above address.

Record Access Procedures:

As in notification procedure.

Contesting Record Procedures:

As in notification procedure.

Record Source Categories:

Correspondents with the Office of the 21st Century Workforce.

Systems Exempted from Certain Provisions of the Act:

None.

Signed in Washington, DC this 27th day of January, 2003.
Elaine L. Chao,
Secretary of Labor.

[FR Doc. 03-2841 Filed 2-5-03; 8:45 am]

BILLING CODE 4510-23-U